DEPARTMENT OF COMMERCE

Submission for OMB Review; Comment Request

The Department of Commerce will submit to the Office of Management and Budget (OMB) for clearance the following proposal for collection of information under the provisions of the Paperwork Reduction Act (44 U.S.C. Chapter 35).

Agency: National Telecommunications and Information Administration.

Title: Community Connectivity Initiative Self-Assessment Tool.

OMB Control Number: None.

Form Number(s): None.

Type of Request: Regular submission; new collection.

Number of Respondents: 500.

Average Hours Per Response: Annually: 12 hours.

Burden Hours: 6,000.

Needs and Uses:

The National Telecommunications and Information Administration (NTIA) launched BroadbandUSA in January 2015 in response to demand from communities that realized broadband access and use are vital to their economic development, innovation, education, and healthcare needs. BroadbandUSA provides technical assistance, guidance, and resources to communities across the country that want to expand their broadband capacity and promote broadband adoption. BroadbandUSA brings stakeholders together to solve problems, contribute to emerging policies, link communities to other federal agencies and funding sources, and address barriers to collaboration across agencies.

In March 2015, President Obama created the Broadband Opportunity Council (Council), an interagency collaboration among 25 federal agencies co-chaired by the Departments of Commerce and Agriculture, to determine what actions the federal government could take to eliminate regulatory barriers to broadband deployment and to encourage investment in broadband networks and services.¹ The Community Connectivity Initiative is one of NTIA's commitments outlined in the Council's report released in September 2015.²

¹ The White House, Office of the Press Secretary, Presidential Memorandum—Expanding Broadband Deployment and Adoption by Addressing Regulatory Barriers and Encouraging Investment and Training (March 23, 2015), available at https://www.whitehouse.gov/the-press-office/2015/03/23/presidential-memorandum-expanding-broadband-deployment-and-adoption-addr.

² Id. at 19. The report tasked NTIA, in collaboration with the National Economic Council, to “convene stakeholders to design and launch a community connectivity index.”

The purpose of the Community Connectivity Initiative is to support communities with tools and resources to attract broadband investment and promote meaningful use. NTIA and the National Economic Council conducted outreach to more than 200 stakeholders and communities to seek input on the implementation of the Community Connectivity Initiative. The initial findings of that outreach resulted in collaborators and communities assisting in the creation of the framework for the community connectivity self-assessment tool. The questions developed for the community connectivity self-assessment tool reflect extensive input from stakeholders in communities, businesses, and nonprofits across America. Throughout 2016, NTIA conducted more than 20 webinars and workshops where individuals and groups served as collaborators in shaping the Community Connectivity framework, assessment, and resources. That stakeholder input is the foundation of the Community Connectivity Initiative.

The objectives of the Community Connectivity Initiative are to: (1) Support communities as they convene, assess, and act to promote local priorities and advance broadband access, adoption, policies, and use; and (2) increase the number of communities actively assessing connectivity impacts and investing to improve broadband outcomes. The Community Connectivity Initiative includes three resources for communities, including the community connectivity framework, an online self-assessment tool, and resources that support local planning and action. The community connectivity framework provides a structure to engage local stakeholders in conversations about broadband access and community priorities.

The online self-assessment tool will provide local leaders with a means for assessing broadband needs in their communities. The tool will enable them to record findings and integrate assessments with national datasets on community broadband by providing users with data and asking questions covering three specific categories: access, adoption, and community. Initially, at the time of the 60-day Federal Register Notice, NTIA intended to collect input through the community connectivity self-assessment tool across four major categories: access, adoption, policy, and use. However, in response to stakeholder engagement in clarifying the framework, NTIA decided to combine the policy and use categories into one category called community.

The community connectivity self-assessment tool will collect input on the same information outlined in the 60-day Federal Register Notice. Since the Notice, NTIA has also decided to reorganize the tool's categories and sub-categories. The reorganized approach does not change the information that NTIA intends to collect, only the order in which NTIA collects the information.

Upon completion of the self-assessment tool, communities will receive a report that combines input from the self-assessment tool with other data sources, along with resources that communities could use to improve their broadband capabilities. Through this effort, the community connectivity self-assessment tool will produce improved broadband planning assets for communities, thereby increasing the number of communities actively investing to improve broadband access and digital inclusion.

Affected Public: State, regional, local, and tribal government organizations.

Frequency: Annually.

Respondent's Obligation: Voluntary.

NTIA published a Notice in the Federal Register on June 28, 2016 soliciting comments on this information collection, with a 60-day public comment period. NTIA did not receive comments on this Notice.

This information collection request may be viewed at reginfo.gov or http://federalregister.gov/a/2016-15149. Follow the instructions to view Department of Commerce collections currently under review by OMB.

Written comments and recommendations for the proposed information collection should be sent within 30 days of publication of this notice to OIRA_Submission@omb.eop.gov or fax to (202) 395-5806.

Sheleen Dumas,
PRA Departmental Lead, Office of the Chief Information Officer.

[FR Doc. 2017-00399 Filed 1-10-17; 8:45 am]

BILLING CODE 3510-JE-P